ENVIRONMENTAL PROTECTION AGENCY

[EPA-HQ-OPP-2009-0321; FRL-8795-1]

Dimethyldithiocarbamate Salts; Amendment to Terminate Uses

AGENCY: Environmental Protection Agency (EPA).

ACTION: Notice.

SUMMARY: This notice announces EPA's order to terminate uses, voluntarily requested by the registrant and accepted by the Agency, of products containing the pesticide sodium dimethyldithiocarbamate, pursuant to section 6(f)(1) of the Federal Insecticide, Fungicide, and Rodenticide Act (FIFRA), as amended. This cancellation order follows a July 1, 2009 Federal Register Notice of Receipt of Request from a sodium dimethyldithiocarbamate registrant to voluntarily amend to terminate uses of their sodium dimethyldithiocarbamate preservation of cotton fabric, preservation of wood veneer, and preservation of alginate pastes product registrations. These are not the last sodium dimethyldithiocarbamate products registered for use in the United States. In the July 1, 2009 Notice, EPA indicated that it would issue an order implementing the amendment to terminate uses, unless the Agency received substantive comments within the 30-day comment period that would merit its further review of these requests, or unless the registrant withdrew its request within this period. The Agency did not receive any comments on the notice. Further, the registrant did not withdraw its request. Accordingly, EPA hereby issues in this notice a cancellation order granting the requested amendment to terminate uses. Any distribution, sale, or use of the sodium dimethyldithiocarbamate products subject to this cancellation order is permitted only in accordance with the terms of this order, including any existing stocks provisions.

DATES: The cancellation is effective November 12, 2009.

FOR FURTHER INFORMATION CONTACT: Eliza Blair, Antimicrobials Division (7510P), Office of Pesticide Programs, Environmental Protection Agency, 1200 Pennsylvania Ave., NW., Washington, DC 20460-0001; telephone number: (703) 308-7279; e-mail address: blair.eliza@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2009-0321. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the termination of use, as requested by the registrant, of materials-preservation manufacturing-use sodium dimethyldithiocarbamate product registered under section 3 of FIFRA. The registered product and the uses that are terminated and removed from the label are listed in Table 1 of this unit.

Table 1.—Sodium Dimethyldithio- carbamate Product Registration Amendments to Terminate Uses
EPA Registration Number | Product Name | Delete from Label
1965-8 | Vancide 51 | Preservation of cotton fabric, preservation of wood veneer, and preservation of alginate pastes

Table 2 of this unit includes the name and address of record for the registrant of the product in Table 1 of this unit.

Table 2.—Registrants of Amended Sodium Dimethyldithiocarbamate Products
EPA Company Number | Company Name and Address
1965 | R.T. Vanderbilt Co. Inc. 30 Winfield Street Norwalk, CT 06856-5150

III. Summary of Public Comments Received and Agency Response to Comments

During the public comment period provided, EPA received no comments in response to the July 1, 2009 Federal Register notice (74 FR 31428) (FRL-8417-2) announcing the Agency's receipt of the request for amendment to terminate uses of sodium dimethyldithiocarbamate.

IV. Cancellation Order

Pursuant to FIFRA section 6(f), EPA hereby approves the requested amendment to terminate uses of sodium dimethyldithiocarbamate registrations identified in Table 1 of Unit II. Accordingly, the Agency orders that the sodium Dimethyldithiocarbamate product registration identified in Table 1 of Unit II is hereby amended to terminate the affected uses. Any distribution, sale, or use of existing stocks of the products identified in Table 1 of Unit II in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation order. The cancellation order issued in this notice includes the following existing stocks provisions.

The Agency has authorized the registrants to sell or distribute product under the previously approved labeling for a period of 18 months after approval of the revision, unless other restrictions have been imposed, as in special review actions.

List of Subjects

Environmental protection, Pesticides and pests, Antimicrobials, dimethyldithiocarbamate salts, Sodium dimethyldithiocarbamate.

Dated: October 22, 2009.
Betty Shackleford,
Acting Director, Antimicrobials Division, Office of Pesticide Programs.

[FR Doc. E9-26701 Filed 11-10-09; 8:45 am]

BILLING CODE 6560-50-S